DEPARTMENT OF COMMERCE

International Trade Administration

[C-580-898]

Large Diameter Welded Pipe From the Republic of Korea: Preliminary Results and Partial Rescission of the Countervailing Duty Administrative Review; 2023

AGENCY: Enforcement and Compliance, International Trade Administration, U.S. Department of Commerce.

SUMMARY: The U.S. Department of Commerce (Commerce) preliminarily determines that countervailable subsidies are being provided to certain producers and exporters of large diameter welded pipe (welded pipe) from the Republic of Korea (Korea). The period of review (POR) is January 1, 2023, through December 31, 2023. Additionally, we are rescinding this review with respect to 16 companies. Interested parties are invited to comment on these preliminary results of review.

DATES: Applicable September 11, 2025.

FOR FURTHER INFORMATION CONTACT: Brandon James, AD/CVD Operations, Office VIII, Enforcement and Compliance, International Trade Administration, U.S. Department of Commerce, 1401 Constitution Avenue NW, Washington, DC 20230; telephone: (202) 482-7472.

SUPPLEMENTARY INFORMATION:

Background

On May 2, 2019, Commerce published a countervailing duty (CVD) order on welded pipe from Korea.¹ On July 5, 2024, Commerce initiated an administrative review of the Order.² Commerce selected Hyundai RB Co., Ltd. (Hyundai RB) and SeAH Steel Corporation (SeAH Steel) as the mandatory respondents in this administrative review.³ On July 22, 2024, Commerce tolled certain deadlines in this administrative proceeding by seven days.⁴ On December 9, 2024, Commerce tolled the deadline to issue the preliminary results in this administrative review by an additional 90 days.⁵ On April 3, 2025, Commerce extended the deadline for these preliminary results to no later than September 5, 2025.⁶

¹ See Large Diameter Welded Pipe from the Republic of Korea: Countervailing Duty Order, 84 FR 18773 (May 2, 2019) (Order).

² See Initiation of Antidumping and Countervailing Duty Administrative Reviews, 89 FR 55567 (July 5, 2024) (Initiation Notice).

³ See Memorandum, “Respondent Selection,” dated August 5, 2024.

⁴ See Memorandum, “Tolling of Deadlines for Antidumping and Countervailing Duty Proceedings,” dated July 22, 2024.

⁵ See Memorandum, “Tolling of Deadlines for Antidumping and Countervailing Duty Proceedings,” dated December 9, 2024.

⁶ See Memorandum, “Extension of Deadline for Preliminary Results of Countervailing Duty Administrative Review,” dated April 3, 2025.

For a complete description of the events that followed the initiation of this review, see the Preliminary Decision Memorandum.⁷ A list of topics discussed in the Preliminary Decision Memorandum is included in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results of the Administrative Review of the Countervailing Duty Order on Large Diameter Welded Pipe from the Republic of Korea; 2023,” dated concurrently with, and hereby adopted by, this notice (Preliminary Decision Memorandum).

Scope of the Order

The merchandise covered by the Order is welded pipe. For a complete description of the scope of the Order, see the Preliminary Decision Memorandum.

Rescission of Administrative Review, in Part

It is Commerce's practice to rescind an administrative review of a CVD order, pursuant to 19 CFR 351.213(d)(3), when there are no reviewable entries of subject merchandise during the POR for which liquidation is suspended.⁸ Normally, upon completion of an administrative review, the suspended entries are liquidated at the CVD assessment rate calculated for the review period.⁹ Therefore, for an administrative review of a company to be conducted, there must be a reviewable, suspended entry that Commerce can instruct CBP to liquidate at the CVD assessment rate calculated for the POR.¹⁰

⁸ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

⁹ See 19 CFR 351.212(b)(2).

¹⁰ See 19 CFR 351.213(d)(3).

On August 21, 2024, Commerce notified interested parties that it intended to rescind this administrative review with respect to the 16 companies, listed in Appendix II, in the absence of suspended entries of subject merchandise during the POR.¹¹ No party commented on our Intent to Rescind Memorandum and there is no other information on the record indicating that these companies had POR entries of the subject merchandise. Absent any evidence of shipments placed on the record, pursuant to 19 CFR 351.213(d)(3), we are rescinding the administrative review of these companies (see Appendix II).

¹¹ See Memorandum, “Notice of Intent to Rescind Review, In Part,” dated August 21, 2024 (Intent to Rescind Memorandum).

Methodology

Commerce is conducting this review in accordance with section 751(a)(l)(A) of the Tariff Act of 1930, as amended (the Act). For each of the subsidy programs found countervailable, we preliminarily determine that there is a subsidy, i.e., a government-provided financial contribution by an “authority” that confers a benefit to the recipient, and that the subsidy is specific.¹² For a full description of the methodology underlying our conclusions, see the Preliminary Decision Memorandum.

¹² See sections 771(5)(B) and (D) of the Act regarding financial contribution; section 771(5)(E) of the Act regarding benefit; and section 771(5A) of the Act regarding specificity.

Preliminary Rate for Non-Selected Companies

The statute and Commerce's regulations do not directly address the countervailing duty rates to be applied to companies not selected for individual examination where Commerce limited its examination in an administrative review pursuant to section 777A(e)(2) of the Act. However, Commerce normally determines the rates for non-selected companies in reviews in a manner that is consistent with section 705(c)(5) of the Act, which provides instructions for calculating the all-others rate in an investigation. Section 777A(e)(2) of the Act provides that “the individual countervailable subsidy rates determined under subparagraph (A) shall be used to determine the all-others rate under section 705(c)(5) {of the Act}.” Section 705(c)(5)(A) of the Act states that for companies not investigated, in general, we will determine an all-others rate by weight averaging the countervailable subsidy rates established for each of the companies individually investigated, excluding zero and de minimis rates or any rates based solely on the facts available.

Commerce initiated this administrative review with respect to 26 producers/exporters. We are rescinding the review with respect to the 16 companies listed in Appendix II. Commerce selected two mandatory respondents, Hyundai RB and SeAH Steel, for individual examination. For the remaining non-selected companies subject to this review, i.e., (1) AJU Besteel Co., Ltd.; (2) Chang Won Bending Co., Ltd.; (3) Dong Yang Steel Pipe Co., Ltd.; (4) EEW Korea Co., Ltd.; (5) Histeel Co., Ltd.; (6) Husteel Co., Ltd., (7) Hyundai Steel Company; and (8) Nexteel Co., Ltd., because the rate calculated for mandatory respondent, Hyundai RB, is above de minimis and not based entirely on facts available, we are applying a preliminary subsidy rate based on net subsidy rate calculated for Hyundai RB to the non-selected companies under review. This methodology is consistent with our practice for establishing an all-others subsidy rate pursuant to section 705(c)(5)(A) of the Act.

Preliminary Results of the Review

In accordance with 19 CFR 351.221(b)(4)(i), Commerce preliminarily calculated the following net countervailable subsidy rates for the period January 1, 2023, through December 31, 2023:

Company | Subsidy rate (percent ad valorem)
Hyundai RB Co., Ltd. ¹³ | 0.79
SeAH Steel Corporation ¹⁴ | 0.41 (de minimis)
Review-Specific Average Rate for Non-Selected Companies ¹⁵
AJU Besteel Co., Ltd | 0.79
Chang Won Bending Co., Ltd | 0.79
Dong Yang Steel Pipe Co., Ltd | 0.79
EEW Korea Co., Ltd | 0.79
HiSteel Co., Ltd | 0.79
Husteel Co., Ltd.¹⁶ | 0.79
Hyundai Steel Company ¹⁷ | 0.79
Nexteel Co,. Ltd | 0.79

Disclosure

¹³ Commerce previously found Shinchang Construction Co., Ltd. to be cross-owned with Hyundai RB. See Large Diameter Welded Pipe from the Republic of Korea: Preliminary Results and Partial Rescission of the Countervailing Duty Administrative Review; 2021, 88 FR 37200 (June 7, 2023), and accompanying Preliminary Decision Memorandum at 6-7, unchanged in Large Diameter Welded Pipe from the Republic of Korea: Final Results of Countervailing Duty Administrative Review; 2021, 88 FR 85236 (December 7, 2023), and accompanying Issues and Decision Memorandum.

¹⁴ Commerce finds SeAH Steel Holdings Corporation to be cross-owned with SeAH Steel. See Preliminary Decision Memorandum at 7.

¹⁵ This rate is based on the rates for the respondents that were selected for individual review, excluding rates that are zero, de minimis, or based entirely on facts available. See section 735(c)(5)(A) of the Act.

¹⁶ Subject merchandise both produced and exported by Husteel Co., Ltd. (Husteel) is excluded from the order. See Large Diameter Welded Pipe from the Republic of Korea: Countervailing Duty Order, 84 FR 18773 (May 2, 2019). Thus, Husteel's inclusion in this administrative review is limited to entries for which Husteel was not both the producer and exporter of the subject merchandise.

¹⁷ Subject merchandise both produced and exported by Hyundai Steel Company (Hyundai Steel) and subject merchandise produced by Hyundai Steel and exported by Hyundai Corporation are excluded from the countervailing duty order. See Order, 84 FR at 18773. Thus, Hyundai Steel's inclusion in this administrative review is limited to entries for which Hyundai Steel was not the producer and exporter of the subject merchandise and for which Hyundai Steel was not the producer and Hyundai Corporation was not the exporter of subject merchandise.

Commerce intends to disclose its calculations performed to interested parties for these preliminary results within five days of any public announcement or, if there is no public announcement, within five days of the date of publication of this notice in accordance with 19 CFR 351.224(b).

Public Comment

Case briefs or other written comments may be submitted to the Assistant Secretary for Enforcement and Compliance.¹⁸ Pursuant to 19 CFR 351.309(c)(1)(ii), we have modified the deadline for interested parties to submit case briefs to Commerce no later than 21 days after the date of the publication of this notice. Rebuttal briefs, limited to issues raised in the case briefs, may be filed not later than five days after the date for filing case briefs.¹⁹ Interested parties who submit case briefs or rebuttal briefs in this proceeding must submit: (1) a table of contents listing each issue; and (2) a table of authorities.²⁰

¹⁸ See 19 CFR 351.309(c)(1)(ii).

¹⁹ See 19 CFR 351.309(d); see also Administrative Protective Order, Service, and Other Procedures in Antidumping and Countervailing Duty Proceedings, 88 FR 67069, 67077 (September 29, 2023) (APO and Service Final Rule).

²⁰ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²¹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²²

²¹ We use the term “issue” here to describe an argument that Commerce would normally address in a comment of the Issues and Decision Memorandum.

²² See APO and Service Final Rule.

Pursuant to 19 CFR 351.310(c), interested parties who wish to request a hearing must submit a written request to the Assistant Secretary for Enforcement and Compliance, filed electronically via ACCESS. Requests should contain: (1) the party's name, address, and telephone number; (2) the number of participants and whether any of the participants are foreign nationals; and (3) a list of issues to be discussed. Issues raised in the hearing will be limited to those raised in the respective case briefs. An electronically filed hearing request must be received successfully in its entirety by Commerce's electronic records system, ACCESS, by 5 p.m. Eastern Time within 30 days after the date of publication of this notice.

Final Results

Unless the deadline is extended, we intend to issue the final results of this administrative review, which will include the results of our analysis of the issues raised in the case briefs, within 120 days of publication of these preliminary results in the Federal Register, pursuant to section 751(a)(3)(A) of the Act and 19 CFR 351.213(h).

Assessment Rates

In accordance with 19 CFR 351.221(b)(4)(i), we preliminarily assigned subsidy rates in the amounts shown above for the producers/exporters shown above. Upon completion of the administrative review, consistent with section 751(a)(1) of the Act and 19 CFR 351.212(b)(2), Commerce shall determine, and U.S. Customs and Border Protection (CBP) shall assess, countervailing duties on all appropriate entries covered by this review.

For the companies for which this review is rescinded, we will instruct CBP to assess countervailing duties on all appropriate entries at a rate equal to the cash deposit of estimated countervailing duties required at the time of entry, or withdrawal from warehouse, for consumption, during the period January 1, 2023, through December 31, 2023, in accordance with 19 CFR 351.212(c)(l)(i). We intend to issue assessment instructions to CBP for these companies no earlier than 35 days after the date of publication of the preliminary results of this review in the Federal Register.

For the companies remaining in the review, we intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rate

In accordance with section 751(a)(2)(C) of the Act, Commerce intends, upon publication of the final results, to instruct CBP to collect cash deposits of estimated countervailing duties in the amounts calculated in the final results for each of the reviewed companies listed above on shipments of subject merchandise entered, or withdrawn from warehouse, for consumption on or after the date of publication of the final results of this review, except, where the rate calculated in the final results is zero or de minimis, no cash deposit will be required. For all non-reviewed firms, we will instruct CBP to continue to collect cash deposits of estimated countervailing duties at the all-others rate as established in the Order (i.e., 9.29 percent) ²³ or the most recent company-specific rate applicable to the company, as appropriate. These cash deposit instructions, when imposed, shall remain in effect until further notice.

²³ See Order, 84 FR at 18775.

Notification to Interested Parties

These preliminary results of review are issued and published pursuant to sections 751(a)(1) and 777(i)(1) of the Act, and 19 CFR 351.213(d)(4) and 351.221(b)(4).

Dated: September 5, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Diversification of Korea's Economy

V. Subsidies Valuation Information

VI. Benchmarks and Interest Rates

VII. Analysis of Programs

VIII. Recommendation

Appendix II

Companies Rescinded From Review

1. Daiduck Piping Co., Ltd.

2. Dongbu Incheon Steel Co., Ltd.

3. EEW KHPC Co., Ltd.

4. Hansol Metal Co., Ltd.

5. Il Jin Nts Co. Ltd.

6. Iljin Nts Co. Ltd.

7. Kem Solutions Co., Ltd.

8. Kiduck Industries Co., Ltd.

9. Kum Kang Kind. Co., Ltd.

10. Kumsoo Connecting Co., Ltd.

11. POSCO International Corporation

12. Samkang M&T Co., Ltd.

13. Seonghwa Industrial Co., Ltd.

14. SIN-E B&P Co., Ltd.

15. Steel Flower Co., Ltd.

16. WELTECH Co., Ltd.

[FR Doc. 2025-17463 Filed 9-10-25; 8:45 am]

BILLING CODE 3510-DS-P